DEPARTMENT OF ENERGY

Western Area Power Administration

Record of Decision for Upper Great Plains Wind Energy Final Programmatic Environmental Impact Statement (DOE/EIS-0408)

AGENCY: Western Area Power Administration, DOE.

ACTION: Record of Decision.

SUMMARY: The Western Area Power Administration (Western) and the U.S. Fish and Wildlife Service (Service), as joint lead agencies, issued the Upper Great Plains Wind Energy Final Programmatic Environmental Impact Statement (Final PEIS) (DOE/EIS-0408) on May 1, 2015. Western has decided to implement Alternative 1 as described in the Final PEIS and summarized in this Record of Decision (ROD). Alternative 1 was identified as both the agency preferred alternative and the environmentally preferred alternative.

FOR FURTHER INFORMATION CONTACT: For information on Western's proposed programmatic environmental evaluation procedures for wind energy project interconnections and general information about interconnections with Western's transmission system, contact Matt Marsh, Regional Environmental Manager, Upper Great Plains Customer Service Region, Western Area Power Administration, P.O. Box 35800, Billings, MT 59107-5800, telephone (406) 255-2810, email mmarsh@wapa.gov. The Final PEIS, this ROD, and other project documents are available for review on Western's Web site at https://www.wapa.gov/regions/UGP/Environment/Pages/ugp-nepa.aspx and the project Web site at http://plainswindeis.anl.gov.

For general information on the U.S. Department of Energy (DOE) National Environmental Policy Act (NEPA) process, please contact Carol M. Borgstrom, Director, Office of NEPA Policy and Compliance (GC-54), U.S. Department of Energy, 1000 Independence Avenue SW., Washington, DC 20585, telephone (202) 586-4600 or (800) 472-2756, email askNEPA@hq.doe.gov.

SUPPLEMENTARY INFORMATION: Western and the Service, as joint lead agencies, prepared the Upper Great Plains Wind Energy Draft and Final PEIS (DOE/EIS-0408), the Final PEIS being issued May 1, 2015 (80 FR 24915), in response to an increase in wind energy development and interconnection requests. Western and the Service have interests in streamlining their procedures for conducting environmental reviews of wind energy applications by implementing standardized evaluation procedures and identifying measures to address potential environmental impacts associated with wind energy projects in the Upper Great Plains Region (UGP Region), which encompasses all or parts of the states of Iowa, Minnesota, Montana, Nebraska, North Dakota, and South Dakota. Since formalizing the process and procedures for environmental reviews would be Federal actions, Western and the Service prepared the PEIS in accordance with the National Environmental Policy Act of 1969 (NEPA) (42 U.S.C. 4321-4347), as amended, and the Council on Environmental Quality (CEQ) NEPA regulations (40 CFR parts 1500-1508). The Bureau of Reclamation, Bureau of Indian Affairs, and the Rural Utilities Service have participated in the development of the PEIS as cooperating agencies.

Western and the Service have cooperatively prepared the PEIS to: (1) Assess the potential environmental impacts associated with wind energy projects within the UGP Region that may interconnect to Western's transmission system, or that may propose placement of project elements on grassland or wetland easements managed by the Service; and (2) evaluate how environmental impacts would differ under alternative sets of environmental evaluation procedures, best management practices, avoidance strategies, and mitigation measures that the agencies would request project developers to implement, as appropriate, for specific wind energy projects.

The objective of the PEIS is to proactively strengthen and streamline the environmental review process by having already analyzed and addressed general environmental concerns while specifically providing for Endangered Species Act (ESA) (16 U.S.C. 1531 et seq.) compliance for wind development projects that incorporate design elements to reduce impacts. The PEIS analyzes, to the extent practicable, the impacts resulting from development of wind energy projects and the effectiveness of best management practices, avoidance of sensitive areas, and mitigation measures in reducing potential impacts. Impacts and mitigation have been analyzed for each environmental resource, and all components of wind energy projects have been addressed, including turbines, transformers, collector lines, overhead lines, access roads, substation installations, and operational and maintenance activities. Many of the potential impacts resulting from constructing and operating these types of wind energy infrastructure are well known from existing wind energy generation projects. The environmental procedures and mitigation strategies developed have been structured to be consistent with Western's Open Access Transmission Service Tariff and Southwest Power Pool, Inc.'s (SPP) Open Access Transmission Tariff, both of which include environmental review provisions.¹

¹ Western's UGP Region has signed a membership agreement with SPP with a target date of transferring the functional control of its facilities in the eastern interconnection to SPP on October 1, 2015. Thereafter interconnection requests would be pursuant to the SPP tariff. Revisions to the SPP tariff incorporate Western's requirement that it will still perform NEPA reviews on interconnections associated with its facilities.

In addition to the PEIS, Western and the Service engaged in informal consultation under Section 7 of the ESA, 16 U.S.C. 1536, in support of the PEIS process. A programmatic biological assessment (Programmatic BA) was prepared for listed and candidate species occurring in the UGP Region. Development of the Programmatic BA was closely coordinated with the Service's North Dakota Ecological Services Field Office. That office issued a letter of concurrence with the Programmatic BA on July 7, 2015, as a result of this consultation.

The agencies also investigated a programmatic approach to Section 106 consultation under the National Historic Preservation Act (NHPA), 54 U.S.C. 306108. Since Section 106 consultation is highly site-specific, it was determined that effective consultation could only be accomplished once an individual project location was defined. However, general avoidance and protection measures for cultural resources and historic properties that would be implemented were identified and included in the analysis.

Purpose and Need

Western's purpose and need for Federal action was presented in the Draft and Final PEIS: Western needs to streamline the environmental review process for wind energy project interconnection requests to help expedite wind energy resource development in the UGP Region while maintaining environmental protections.

Description of Alternatives

Four alternatives, including the No Action Alternative, were analyzed in the PEIS and are briefly described below. More detailed information on the alternatives may be found in the Final PEIS, which can be accessed from the Web site provided above.

No Action Alternative: Under the No Action Alternative, Western would continue to consider wind energy project interconnection requests under the procedures currently used to evaluate and address the environmental impacts associated with wind energy projects. Requests would be processed, reviewed, and evaluated on a case-by-case basis, including separate NEPA, ESA Section 7, and NHPA Section 106 reviews performed for each specific project.

Alternative 1—Preferred Alternative: Under Alternative 1, Western would adopt a standardized process for collecting information and evaluating and reviewing environmental impacts of wind energy interconnection requests. Best management practices and mitigation measures developed in the PEIS programmatic process would be employed to minimize the potential environmental impacts of wind energy interconnection projects. Project-specific NEPA analyses, either environmental assessments (EAs) or streamlined EISs, would tier off (eliminate repetitive discussions of the same issues) the analyses in the Final PEIS as long as the appropriate identified conservation measures were implemented as part of proposed projects. In accordance with 40 CFR 1502.20, these project-specific NEPA documents would summarize the information and issues covered in the Final PEIS or incorporate relevant discussions by reference. This approach would allow for more efficient NEPA documents that would properly focus on local or site-specific issues. The decision to pursue a tiered EA or EIS would be made similar to any other proposal. If the potential for new significant impact appeared low, then an EA process could be initiated, with the understanding that the identification of any potentially new significant impact would require transition to an EIS process. It is anticipated that the tiered NEPA document in most instances will be an EA. If there appeared to be a potential for new significant environmental impact, based on the project description and site location, then a tiered EIS process would be initiated. Western may minimize the risk of project and schedule impacts from such a transition by conducting public scoping—informing the public about a federal action and soliciting public comments—when using a tiered EA process.

Project-specific ESA Section 7 consultations would utilize the Programmatic BA so long as the applicable best management practices, minimization measures, mitigation measures, and monitoring requirements established in the Programmatic BA were implemented. Project proponents who could not agree to the requirements in the Programmatic BA would be required to conduct a separate ESA Section 7 consultation with the Service. NHPA Section 106 and related tribal consultation would continue unchanged from the present practices; since cultural resources issues are very site-specific, it was not possible to address them programmatically beyond including general avoidance and protection measures and committing to the established processes and procedures.

The primary objective of Alternative 1 was to collect relevant natural resources information; evaluate the typical impacts of wind energy projects and associated facilities on those resources; identify effective best management practices, minimization measures, and mitigation measures that could reduce impacts; provide information about areas that would be more sensitive to development impacts and encourage avoidance of siting projects in these areas; and have all this material available to support site-specific tiered environmental reviews. The parallel Programmatic BA would similarly expedite the ESA Section 7 consultation by having previously established minimization measures, mitigation measures, and monitoring requirements, by species, that if committed to and implemented would constitute compliance with ESA Section 7 without a separate consultation.

Alternative 2: Alternative 2 would be exactly the same as Alternative 1 for Western. However, under Alternative 2 the Service would not allow easement exchanges to accommodate the development of wind energy facilities. By comparison, Alternative 1 would provide a standardized process for the Service to allow easement exchanges, and facilitate wind energy development while retaining or enhancing the habitat and wildlife values the easement program was designed to provide. The differences in the Service's approach to siting on easements do not affect Western's decision, and Western's actions would be the same under both alternatives.

Alternative 3: Under Alternative 3, separate project-specific NEPA evaluations would be required for each interconnection request. Western would not request additional best management practices or mitigation measures of wind energy developers beyond those mandated under applicable Federal, State, and local regulations. More effort would be required to produce site-specific NEPA documents because of the reduced scope of the PEIS, and time frames for the site-specific documents would be extended accordingly. In essence Alternative 3 is a minimalist programmatic approach that would incorporate all mandated environmental review requirements, but would not extend beyond them. Any mandated or required provisions included in either Alternative 1 or 2 are also incorporated in Alternative 3.

Since the proposed action is programmatic in nature and did not include on-the-ground activities, no direct impacts to the human environment would occur under any of the PEIS alternatives. However, the PEIS analysis identified generic wind energy development impacts and evaluated a large number of best management practices and avoidance, minimization, and mitigation measures. Alternative 1 is the environmentally preferred alternative because it develops comprehensive procedures and mitigation measures, results in consistency of the application and authorization process, and supports wind energy development by facilitating the understanding of the requirements for approval by potential wind energy project developers. The development of renewable energy resources is a priority national policy, and Alternative 1 supports that objective. One of the objectives of the proposed action was to avoid or minimize environmental harm from future wind energy projects, and that objective is best met byAlternative 1.

Decision

Western has determined that Alternative 1, the agency preferred alternative, best meets the agency's needs. Alternative 1 is also the environmentally preferred alternative, and would afford the greatest protection for environmental resources that would be impacted by future wind energy projects. Therefore, it is Western's decision to implement Alternative 1, and use the program defined by that alternative for all applicable future wind energy project interconnection requests in the UGP Region.²

² On November 16, 2011, DOE's Acting General Counsel restated the delegation to Western's Administrator of all the authorities of the General Counsel with respect to environmental impact statements.

This decision is based on the information contained in the Upper Great Plains Wind Energy Final PEIS. This ROD was prepared pursuant to the requirements of the CEQ Regulations for Implementing NEPA § 1505.2 and DOE's NEPA implementing procedures, 10 CFR 1021 et seq.

Dated: August 17, 2015.
Mark A. Gabriel,
Administrator.

[FR Doc. 2015-21131 Filed 8-25-15; 8:45 am]

BILLING CODE 6450-01-P